DEPARTMENT OF TRANSPORTATION

Federal Aviation Administration

14 CFR Part 39

[Docket No. FAA-2016-9574; Directorate Identifier 2016-NM-063-AD; Amendment 39-18921; AD 2017-12-06]

RIN 2120-AA64

Airworthiness Directives; Airbus Airplanes

AGENCY: Federal Aviation Administration (FAA), Department of Transportation (DOT).

ACTION: Final rule.

SUMMARY: We are adopting a new airworthiness directive (AD) for all Airbus Model A300 series airplanes; Model A300 B4-600, B4-600R, and F4-600R series airplanes, and Model A300 C4-605R Variant F airplanes (collectively called Model A300-600 series airplanes); and Model A310 series airplanes. This AD is intended to complete certain mandated programs intended to support the airplane reaching its limit of validity (LOV) of the engineering data that support the established structural maintenance program. This AD requires inspecting the forward passenger doors to identify the part number, and for affected doors, inspecting to identify existing repairs and doing corrective actions if necessary. We are issuing this AD to address the unsafe condition on these products.

DATES: This AD is effective July 25, 2017.

The Director of the Federal Register approved the incorporation by reference of certain publications listed in this AD as of July 25, 2017.

ADDRESSES: For service information identified in this final rule, contact Airbus SAS, Airworthiness Office—EAW, 1 Rond Point Maurice Bellonte, 31707 Blagnac Cedex, France; telephone: +33 5 61 93 36 96; fax: +33 5 61 93 44 51; email: account.airworth-eas@airbus.com; Internet: http://www.airbus.com. You may view this referenced service information at the FAA, Transport Airplane Directorate, 1601 Lind Avenue SW., Renton, WA. For information on the availability of this material at the FAA, call 425-227-1221. It is also available on the Internet at http://www.regulations.gov by searching for and locating Docket No. FAA-2016-9574.

Examining the AD Docket

You may examine the AD docket on the Internet at http://www.regulations.gov by searching for and locating Docket No. FAA-2016-9574; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Dan Rodina, Aerospace Engineer, International Branch, ANM-116, Transport Airplane Directorate, FAA, 1601 Lind Avenue SW., Renton, WA 98057-3356; telephone: 425-227-2125; fax: 425-227-1149.

SUPPLEMENTARY INFORMATION:

Discussion

We issued a notice of proposed rulemaking (NPRM) to amend 14 CFR part 39 by adding an AD that would apply to all Airbus Model A300 series airplanes; Model A300 B4-600, B4-600R, and F4-600R series airplanes, and Model A300 C4-605R Variant F airplanes (collectively called Model A300-600 series airplanes); and Model A310 series airplanes. The NPRM published in the Federal Register on February 17, 2017 (82 FR 10968) (“the NPRM”). The NPRM was intended to complete certain mandated programs intended to support the airplane reaching its limit of validity (LOV) of the engineering data that support the established structural maintenance program. The NPRM proposed to require inspecting the forward passenger doors to identify the part number, and for affected doors, inspecting to identify existing repairs and doing corrective actions if necessary. We are issuing this AD to detect and correct widespread fatigue damage of the forward passenger doors, which could result in reduced structural integrity of the airplane.

The European Aviation Safety Agency (EASA), which is the Technical Agent for the Member States of the European Union, has issued EASA AD 2016-0079, dated April 21, 2016 (referred to after this as the Mandatory Continuing Airworthiness Information, or “the MCAI”), to correct an unsafe condition for all Airbus Model A300 series airplanes; Model A300 B4-600, B4-600R, and F4-600R series airplanes, and Model A300 C4-605R Variant F airplanes (collectively called Model A300-600 series airplanes); and Model A310 series airplanes. The MCAI states:

In the frame of the “Ageing Aeroplane Safety Rule Project”, a review of the A300, A300-600 and A310 Structural Repair Manuals (SRMs) was performed against Fatigue and Damage Tolerance criteria to satisfy the ageing aeroplane regulation.

As a result of this review, some repairs concerning the forward passenger door flanges were identified as no longer applicable and had to be de-activated. Those repairs may however have been accomplished on some aeroplanes passenger door flanges prior to de-activation of the repair.

This condition, if not detected and corrected, could reduce the structural integrity of the aeroplane.

To address this potential unsafe condition, Airbus issued Service Bulletin (SB) A300-52-0180, SB A300-52-6084 and SB A310-52-2076 to provide inspection instructions.

For the reasons described above, this [EASA] AD requires identification of the forward passenger door part number (P/N) and a one-time Detailed Inspection (DET) of the forward passenger door frame segments inner flanges for SRM repair embodied and, depending on the results from the identification and inspection, accomplishment of corrective action(s) [e.g., repair].

You may examine the MCAI in the AD docket on the Internet at http://www.regulations.gov by searching for and locating Docket No. FAA-2016-9574.

Comments

We gave the public the opportunity to participate in developing this AD. The following presents the comment received on the NPRM and the FAA's response to that comment.

Support for the NPRM

FedEx agrees that the inspection is necessary and supports the intent of the NPRM.

Request To Change the Reporting Requirement

FedEx stated that it does not have a process in place to report the inspection results specified by paragraph (i) of the proposed AD using the on-line Airbus reporting tool. FedEx asked that it be allowed to use the older method of reporting identified in Airbus Service Bulletins A310-52-2076, Revision 01, dated October 14, 2014; and A300-52-6084, Revision 01, dated October 16, 2014. FedEx added that the new on-line application would be used when a method and adequate personnel are in place to utilize that application.

We agree with the commenter. We recognize that operators may not have a method in place or adequate personnel available to utilize the online Airbus reporting tool. Using the reporting sheet provided in Airbus Service Bulletins A310-52-2076, Revision 01, dated October 14, 2014; and A300-52-6084, Revision 01, dated October 16, 2014; is an acceptable method for reporting. We have revised paragraph (i) of this AD to include this option for reporting.

Conclusion

We reviewed the relevant data, considered the comment received, and determined that air safety and the public interest require adopting this AD with the change described previously and minor editorial changes. We have determined that these minor changes:

• Are consistent with the intent that was proposed in the NPRM for correcting the unsafe condition; and

• Do not add any additional burden upon the public than was already proposed in the NPRM.

We also determined that this change will not increase the economic burden on any operator or increase the scope of this AD.

Related Service Information Under 1 CFR Part 51

Airbus has issued the following service information:

• Airbus Service Bulletin A300-52-0180, Revision 01, dated October 14, 2014.

• Airbus Service Bulletin A310-52-2076, Revision 01, dated October 14, 2014.

• Airbus Service Bulletin A300-52-6084, Revision 01, dated October 16, 2014.

The service information describes procedures for inspecting the forward passenger doors on the left- and right-hand sides to identify the part number, and for affected doors, inspecting to identify existing repairs and doing corrective actions. These documents are distinct since they apply to different airplane models. This service information is reasonably available because the interested parties have access to it through their normal course of business or by the means identified in the ADDRESSES section.

Costs of Compliance

We estimate that this AD affects 128 airplanes of U.S. registry.

We estimate the following costs to comply with this AD:

Estimated Costs
Action | Labor cost | Parts cost | Cost per product | Cost on U.S. operators
Part number inspection | 1 work-hour × $85 per hour = $85 | $0 | $85 | $10,880.
Reporting for forward passenger door having P/N A521-71851-000 or P/N A521-71851-001 | 1 work-hour × $85 per hour = $85 | 0 | 85 | Up to $10,880.

We estimate the following costs to do any necessary corrective actions that will be required based on the results of the part number inspection. We have no way of determining the number of airplanes that might need these corrective actions:

On-Condition Costs
Action | Labor cost | Parts cost | Cost per product
Detailed inspection | 7 work-hours × $85 per hour = $595 | $0 | $595

We have received no definitive data that would enable us to provide cost estimates for other on-condition actions specified in this AD.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-12-06 Airbus: Amendment 39-18921; Docket No. FAA-2016-9574; Directorate Identifier 2016-NM-063-AD.

(a) Effective Date

This AD is effective July 25, 2017.

(b) Affected ADs

None.

(c) Applicability

This AD applies to Airbus airplanes identified in paragraphs (c)(1) through (c)(6) of this AD, certificated in any category, all manufacturer serial numbers.

(1) Model A300 B2-1A, B2-1C, B2K-3C, B2-203, B4-2C, B4-103, and B4-203 airplanes.

(2) Model A300 B4-601, B4-603, B4-620, and B4-622 airplanes.

(3) Model A300 B4-605R and B4-622R airplanes.

(4) Model A300 F4-605R and F4-622R airplanes.

(5) Model A300 C4-605R Variant F airplanes.

(6) Model A310-203, -204, -221, -222, -304, -322, -324, and -325 airplanes.

(d) Subject

Air Transport Association (ATA) of America Code 52, Doors.

(e) Reason

This AD is intended to complete certain mandated programs intended to support the airplane reaching its limit of validity (LOV) of the engineering data that support the established structural maintenance program. We are issuing this AD to detect and correct widespread fatigue damage of the forward passenger doors, which could result in reduced structural integrity of the airplane.

(f) Compliance

Comply with this AD within the compliance times specified, unless already done.

(g) Parts Identification

Within 36 months after the effective date of this AD, or before exceeding the applicable airplane design service goal specified in table 1 to paragraph (g) of this AD, whichever occurs later: Identify the part number on the forward passenger doors on the left-hand and right-hand sides, in accordance with the Accomplishment Instructions of the applicable service information identified in paragraph (g)(1), (g)(2), or (g)(3) of this AD.

(1) Airbus Service Bulletin A300-52-0180, Revision 01, dated October 14, 2014 (for Model A300 airplanes).

(2) Airbus Service Bulletin A300-52-6084, Revision 01, dated October 16, 2014 (for Model A300-600 series airplanes).

(3) Airbus Service Bulletin A310-52-2076, Revision 01, dated October 14, 2014.

Table 1 to Paragraph (g) of This AD—Design Service Goal
Airplane model/series | Design service goal flight cycles or flight hours
A300 B2-100, B2-200, B2-320 | Before the accumulation of 48,000 total flight cycles.
A300 B4-100 | Before the accumulation of 40,000 total flight cycles.
A300 B4-200 | Before the accumulation of 34,000 total flight cycles.
A300 B4-600, B4-600R, F4-600R, C4-600R | Before the accumulation of 30,000 total flight cycles or 67,500 total flight hours, whichever occurs first.
A310-200 | Before the accumulation of 40,000 total flight cycles or 60,000 total flight hours, whichever occurs first.
A310-300 | Before the accumulation of 35,000 total flight cycles or 60,000 total flight hours, whichever occurs first.

(h) Corrective Actions

(1) For airplanes on which no forward passenger door having part number (P/N) A521-71851-000 or P/N A521-71851-001 is found to be installed, after identifying the part number as specified in paragraph (g) of this AD: No further action is required for these airplanes.

(2) For airplanes on which any forward passenger door having P/N A521-71851-000 or P/N A521-71851-001 is found to be installed, after identifying the part number as specified in paragraph (g) of this AD: Before further flight, do a detailed inspection of all frame segment inner flanges of the forward passenger doors with the affected part numbers for installed repairs, in accordance with the Accomplishment Instructions of the applicable service information identified in paragraph (g)(1), (g)(2), or (g)(3) of this AD.

(i) For Airbus Model A300 airplanes: Before further flight, do all applicable corrective actions, in accordance with the Accomplishment Instructions of Airbus Service Bulletin A300-52-0180, Revision 01, dated October 14, 2014. Where Airbus Service Bulletin A300-52-0180, Revision 01, dated October 14, 2014, specifies to contact Airbus for appropriate action, and specifies that action as “RC” (Required for Compliance): Before further flight, accomplish corrective actions in accordance with the procedures specified in paragraph (l)(2) of this AD.

(ii) For Airbus Model A310 and A300-600 series airplanes on which the repair principle A310 Structural Repair Manual (SRM) 52-10-00, page block (PB) 201, Figure 209, or A300-600 SRM 52-10-00, PB 201, Figure 206, as applicable, is not embodied on any inner flange, no further action is required for these airplanes.

(iii) For Airbus Model A310 and A300-600 series airplanes on which the repair principle A310 SRM 52-10-00, PB 201, Figure 209, or A300-600 SRM 52-10-00, PB 201, Figure 206, as applicable, is embodied on at least one inner flange: Before further flight, do all applicable corrective actions, in accordance with the Accomplishment Instructions of Airbus Service Bulletin A300-52-6084, Revision 01, dated October 16, 2014; or Airbus Service Bulletin A310-52-2076, Revision 01, dated October 14, 2014; as applicable. Where Airbus Service Bulletins A300-52-6084, Revision 01, dated October 16, 2014; and A310-52-2076, Revision 01, dated October 14, 2014; specify to contact Airbus for appropriate action, and specify that action as “RC”: Before further flight, accomplish corrective actions in accordance with the procedures specified in paragraph (l)(2) of this AD.

(i) Reporting Requirement

At the applicable time specified in paragraph (i)(1) or (i)(2) of this AD, report the results of the inspection required by paragraph (h)(2) of this AD to Airbus Service Bulletin Reporting Online Application on Airbus World (https://w3.airbus.com/), or submit the results to Airbus using the reporting sheet provided in the service information identified in paragraphs (g)(2) or (g)(3) of this AD, as applicable.

(1) If the inspection was done on or after the effective date of this AD: Submit the report within 30 days after the inspection.

(2) If the inspection was done before the effective date of this AD: Submit the report within 30 days after the effective date of this AD.

(j) Parts Installation Limitations

As of the effective date of this AD, no person may replace a forward passenger door on any airplane, unless the replacement door has been inspected in accordance with the requirements of this AD.

(k) Credit for Previous Actions

This paragraph provides credit for the actions required by paragraphs (g) and (h) of this AD, if those actions were performed before the effective date of this AD using the applicable service information identified in paragraph (k)(1), (k)(2), or (k)(3) of this AD.

(1) Airbus Service Bulletin A300-52-0180, dated September 23, 2014.

(2) Airbus Service Bulletin A300-52-6084, dated September 23, 2014.

(3) Airbus Service Bulletin A310-52-2076, dated September 23, 2014.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the manager of the International Branch, send it to the attention of the person identified in paragraph (m)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(4) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(m) Related Information

(1) Refer to Mandatory Continuing Airworthiness Information (MCAI) EASA Airworthiness Directive 2016-0079, dated April 21, 2016, for related information. This MCAI may be found in the AD docket on the Internet at http://www.regulations.gov by searching for and locating Docket No. FAA-2016-9574.

(2) For more information about this AD, contact Dan Rodina, Aerospace Engineer, International Branch, ANM-116, Transport Airplane Directorate, FAA, 1601 Lind Avenue SW., Renton, WA 98057-3356; telephone: 425-227-2125; fax: 425-227-1149.

(3) Service information identified in this AD that is not incorporated by reference is available at the addresses specified in paragraphs (n)(3) and (n)(4) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A300-52-0180, Revision 01, dated October 14, 2014.

(ii) Airbus Service Bulletin A300-52-6084, Revision 01, dated October 16, 2014.

(iii) Airbus Service Bulletin A310-52-2076, Revision 01, dated October 14, 2014.

(3) For service information identified in this AD, contact Airbus SAS, Airworthiness Office—EAW, 1 Rond Point Maurice Bellonte, 31707 Blagnac Cedex, France; telephone: +33 5 61 93 36 96; fax: +33 5 61 93 44 51; email: account.airworth-eas@airbus.com; Internet: http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on June 2, 2017.
Michael Kaszycki,
Acting Manager, Transport Airplane Directorate, Aircraft Certification Service.

[FR Doc. 2017-12286 Filed 6-19-17; 8:45 am]

BILLING CODE 4910-13-P